POSTAL SERVICE

United States Postal Service Board of Governors; Sunshine Act Meeting; Notification of Item Added to Meeting Agenda

DATE OF MEETING: November 5, 2001.

STATUS: Closed.

PREVIOUS ANNOUNCEMENTS: 66 FR 54305, October 26, 2001; and 66 FR 55712, November 2, 2001.

Addition

1. Experimental Delivery Confirmation.

At its meeting on November 5, 2001, the Board of Governors of the United States Postal Service voted unanimously to add this item to the agenda of its closed meeting and that no earlier announcement was possible. The General Counsel of the United States Postal Service certified that in her opinion discussion of this item could be properly closed to public observation.

FOR FURTHER INFORMATION CONTACT: David G. Hunter, Secretary of the Board, U.S. Postal Service, 475 L'Enfant Plaza, SW., Washington, DC.

David G. Hunter,
Secretary.

Certification Regarding Closed Meeting of the United States Postal Service Board of Governors

Pursuant to 5 U.S.C. Section 552b(f)(1) and 39 CFR 7.6(a), I, Mary Anne Gibbons, General Counsel of the United States Postal Service, hereby certify that in my opinion the meeting of the Board of Governors that was held on November 5, 2001, was properly closed to the public pursuant to the provisions of section 552b(c)(10) of title 5, United States Code; and section 7.3(j) of title 39, Code of Federal Regulations.

The members considered: (1) Experimental Delivery Confirmation.

Dated: November 7, 2001.
Mary Anne Gibbons,
General Counsel.

[FR Doc. 01-28575 Filed 11-8-01; 4:53 pm]

BILLING CODE 7710-12-M